DEPARTMENT OF THE INTERIOR

Bureau of Land Management

[LLNM004000 L91450000.EJ000 16X.LVDIG16ZGK00]

Notice of Application for a Recordable Disclaimer of Interest: Dimmit County, Texas

AGENCY: Bureau of Land Management, Interior.

ACTION: Notice.

SUMMARY: The Bureau of Land Management (BLM) received an application for a Recordable Disclaimer of Interest (Disclaimer of Interest) from Gringita, Ltd. pursuant to the Federal Land Policy and Management Act of 1976 (FLPMA), as amended, and the regulations in 43 CFR subpart 1864, for certain mineral estate in Dimmit County, Texas. This notice is intended to inform the public of the pending application, give notice of BLM's intention to grant the requested Disclaimer of Interest, and provide a public comment period for the proposed Disclaimer of Interest.

DATES: Comments on this action should be received by April 19, 2017.

ADDRESSES: Written comments must be sent to the Deputy State Director, Lands and Resources, BLM, New Mexico State Office, P.O. Box 27115, Santa Fe, NM 87502-0115.

FOR FURTHER INFORMATION CONTACT: John Ledbetter, Realty Specialist, BLM Oklahoma Field Office, (405) 579-7172. Additional information pertaining to this application can be reviewed in case file TXNM114510 located in the Oklahoma Field Office, 201 Stephenson Parkway, Room 1200, Norman, Oklahoma 73072-2037. Persons who use a telecommunications device for the deaf (TDD) may call the Federal Relay Service (FRS) at 1-800-877-8339 to contact the above individual during normal business hours. The Service is available 24 hours a day, 7 days a week, to leave a message or question with the above individual. You will receive a reply during normal business hours.

SUPPLEMENTARY INFORMATION: The purpose of this Disclaimer is to remove a cloud on the title of a mineral interest in Dimmit County, Texas.

In 1938, the Banking Commissioner of Texas, as receiver for the Commonwealth Bank and Trust Company (in liquidation), reported to have conveyed a one-half, non-participating royalty interest in the property described below to the Reconstruction Finance Corporation (RFC), an independent agency of the United States Government. However, the real property records of Dimmit County, and the records of the United States, do not indicate that the Commonwealth Bank and Trust Company ever obtained this one-half, non-participating royalty interest in the property prior to the 1938 Banking Commissioner's action. The BLM therefore believes that the United States does not own this interest in the property described below. However, the conveyance from the Banking Commissioner of Texas to the RFC creates a cloud on the title. Therefore, pursuant to Section 315 of FLPMA, the BLM proposes to disclaim any claim by the United States to this one-half, non-participating royalty interest in the property described below.

The lands are described as:

Dimmit County, Texas

Parcel One

393.5 acres, being 50.94 acres, H.R. Trammel Survey No. 487½, Abstract No. 1508 and 342.56 acres, James P. Trezevant Survey No. 487, Abstract No. 708.

Parcel Two

621.26 acres, M. Devereaux Survey No. 488, Abstract No. 52.

The area described contains 1,014.76 acres, more or less.

This proposed Disclaimer of Interest does not address any surface interest that may still be vested with the United States of America.

The public is hereby notified that comments may be submitted to the Deputy State Director, Lands and Resources at the address shown above within the comment period identified in the notice. Any adverse comments will be evaluated by the State Director who may modify or vacate this action and issue a final determination.

In the absence of any valid objection, this notice will become the final determination of the Department of the Interior and a Disclaimer of Interest may be issued 90 days from publication of this notice.

All persons who wish to present comments, suggestions, or objections in connection with the proposed Disclaimer of Interest may do so by writing to the Deputy State Director at the above address. Comments, including names and street addresses of commenters, will be available for public review at the BLM New Mexico State Office (see address above), during regular business hours, Monday through Friday, except Federal holidays. Before including your address, phone number, email address, or other personal identifying information in your comment, you should be aware that your entire comment—including your personal identifying information—may be made publicly available at any time. While you can ask us in your comment to withhold your personal identifying information from public review, we cannot guarantee that we will be able to do so.

Authority: 43 CFR 1864.2(a).

Melanie Barnes,
Acting Deputy State Director, Lands and Resources.

[FR Doc. 2017-01201 Filed 1-18-17; 8:45 am]

BILLING CODE 4310-FB-P